DEPARTMENT OF THE INTERIOR

National Park Service

[NPS-WASO-NRNHL-DTS#-5033154; PPWOCRADI0, PCU00RP14.R50000]

National Register of Historic Places; Notification of Pending Nominations and Related Actions

AGENCY: National Park Service, Interior.

ACTION: Notice.

SUMMARY: The National Park Service is soliciting electronic comments on the significance of properties nominated before December 11, 2021, for listing or related actions in the National Register of Historic Places.

DATES: Comments should be submitted electronically by January 6, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before December 11, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARKANSAS

Conway County

Chapel of the Transfiguration, 10 Keller Way, Morrillton vicinity, SG100007356

FLORIDA

Jefferson County

Dixie Plantation, 1583 Livingston Road, Greenville vicinity, SG100007362

IOWA

Linn County

Wickiup Hill Late Woodland Village Site (Archaeology of the Wickiup Hill Locality in Linn County, Iowa MPS), Address Restricted, Toddville vicinity, MP100007333

Wickiup Hill Middle to Late Archaic Camp Site (Archaeology of the Wickiup Hill Locality in Linn County, Iowa MPS), Address Restricted, Toddville vicinity, MP100007334

Wickiup Hill Mound Group No. 1 (Archaeology of the Wickiup Hill Locality in Linn County, Iowa MPS), Address Restricted, Toddville vicinity, MP100007335

Wickiup Hill Mound Group No. 2 (Archaeology of the Wickiup Hill Locality in Linn County, Iowa MPS), Address Restricted, Toddville vicinity, MP100007336

Wickiup Hill Mound Group No. 3 (Archaeology of the Wickiup Hill Locality in Linn County, Iowa MPS), Address Restricted, Toddville vicinity, MP100007337

Wickiup Hill Mound Group No. 4 (Archaeology of the Wickiup Hill Locality in Linn County, Iowa MPS), Address Restricted, Toddville vicinity, MP100007338

KANSAS

Douglas County

Oregon-California Trail Segments (Boundary Increase), US 40, Lawrence vicinity, BC100007343

Shawnee County

Kansas State Office Building, 915 SW Harrison Street, Topeka, SG100007341

MASSACHUSETTS

Suffolk County

Walnut Park Historic District, 7-15 Waldren Rd., 348-363, 367 Walnut Ave., 8-81 Walnut Park, 7-20 Wardman Rd., 65-71 Westminster Ave., Boston, SG100007348

MICHIGAN

Wayne County

Most Worshipful Prince Hall Grand Lodge of Michigan (The Civil Rights Movement and the African American Experience in 20th Century, Detroit MPS), 3500 McDougall St., Detroit, MP100007344

MINNESOTA

Hennepin County

Church of the Incarnation and Rectory, 3801-3817 Pleasant Ave., Minneapolis, SG100007352

The Woman's Club of Minneapolis, 410 Oak Grove Dr., Minneapolis, SG100007357

Otter Tail County

Northern Pacific Depot (Railroads in Minnesota MPS), 423 South Cascade St., Fergus Falls, MP100007347

MISSOURI

Jackson County

East Side Apartments Historic District (Working-Class and Middle-Income Apartment Buildings in Kansas City, Missouri MPS), 5212-5314 East 12th St., 1103-1123 Hardesty Ave., 5308-5315 Williamsburg Ct., 5101-5315 Winner Rd., Kansas City, MP100007359

Jasper County

Joplin YMCA (Historic Resources of Joplin, Missouri MPS), 510 South Wall Ave., Joplin, MP100007358

Randolph County

Moberly Municipal Auditorium, 201-299 West Rollins St., Moberly, SG100007361

St. Louis Independent City

Rose Fanning Elementary School (St. Louis Public Schools of William B. Ittner MPS), 3417 Grace Ave., St. Louis, MP100007353

Cook School, 5935 Horton Pl., St. Louis, SG100007360

NEW HAMPSHIRE

Carroll County

Union Railroad Station and Freight Shed, 1 Chapel St., Wakefield, SG100007349

NEW YORK

Monroe County

Gregory Tract Historic District, Portions of Benton, Caroline, Cayuga, Diem, Gregory, Linden, Meigs, Nicholson, Oakland, Seager, South Goodman, and Weider Sts., Carroll and Goebel Pls., Mt. Vernon and South Clinton Aves., Washburn Park, Rochester, SG100007350

PENNSYLVANIA

Philadelphia County

Hoyle, Harrison & Kaye Textile Mill, 118-160 East Indiana Ave., Philadelphia, SG100007364

TEXAS

Galveston County

Parkland Apartments, 3916 Winnie St. (Ave. G), Galveston, SG100007354

Hood County

Granbury Elementary School, 126 North Morgan St., Granbury, SG100007355

A request for removal has been made for the following resource:

VIRGINIA

Botetourt County

Greenfield, Botetourt Center at Greenfield, US HWY 220, Fincastle, OT10000792

Additional documentation has been received for the following resources:

KANSAS

Douglas County

Pinkney I Historic District (Additional Documentation) (Lawrence, Kansas MPS), Roughly bounded by West 5th St., Tennessee St., West 6th St., and Louisiana St., with 501-533 Louisiana St. and 444-445 West 5th St., Lawrence, AD04000688

Pinkney II Historic District (Additional Documentation) (Lawrence, Kansas MPS), Roughly bounded by West 3rd St., Louisiana St., West 4th St., and Mississippi St., Lawrence, AD04000689

Oregon-California Trail Segments (Additional Documentation), US 40, Lawrence vicinity, AD16000132

VIRGINIA

Radford Independent City, East Radford Historic District (Additional Documentation), Norwood, Stockton, and Downey Sts., and Grove Ave., Radford (Independent City), AD00000491

Authority: Section 60.13 of 36 CFR part 60.

Dated: December 11, 2021.
Sherri A. Frear,
Chief, National Register of Historic Places/National Historic Landmarks Program.

[FR Doc. 2021-27659 Filed 12-21-21; 8:45 am]

BILLING CODE 4312-52-P